DEPARTMENT OF TRANSPORTATION

Federal Railroad Administration

Notice of Application for Approval of Discontinuance or Modification of a Railroad Signal System or Relief from the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2005-21015

Applicants: Central, New York Railroad Corporation, Mr. Nathan R. Fenno, Executive Vice President, 1 Railroad Avenue, Cooperstown, New York 13326.

Norfolk Southern Corporation, Mr. Brian L. Sykes, Chief Engineer, C&S Engineering, 99 Spring Street, SW., Atlanta, Georgia 30303.

The New York, Susquehanna and Western Railway Corporation, Mr. Richard J. Hensel, Vice President—Engineering, 1 Railroad Avenue, Cooperstown, New York 13326.

The Central New York Railroad Corporation (CNYK), Norfolk Southern Corporation (NS), and The New York, Susquehanna and Western Railway Corporation (NYSW) jointly seek approval of the discontinuance and removal of the interlocking, automatic block signal, and traffic control systems, on the single and double main tracks, between CP Sparrow Bush, milepost 89.9, near Port Jervis, New York, and, CP BD, milepost 213.0, near Binghamton, New York, a distant of approximately 123 miles. The proposed changes consist of the following:

(1) Convert the all power-operated and spring switches to hand operation;

(2) Modification of Signal 92E to fixed approach for CP Sparrow Bush, and modification of Signal 2SW at CP Coles to a fixed approach for CP BD;

(3) Installation of a stick release timer at River Lane MP 199.1; and

(4) Installation of a block signal system to provide broken rail protection on a five-mile section of track in the area of Shohola.

The reason given for the proposed change is that the online freight traffic has dwindled to the point that there were only seven active online shippers in 2004. Since 1982, the line has been used by NYSW solely for “overhead” traffic, i.e., the movement of rail cars between NYSW's New Jersey rail lines and Central New York rail lines, and the NYSW is a subsidiary of the Delaware Otsego Corporation. In late in 2004, NS and the Delaware Otsego Corporation officials met to discuss the future of the line. As a result of the discussion, NS decided to lease the line to CNYK for nominal consideration, if it undertook the operation of the line, including maintenance and payment of taxes, but subject to a right to cancel if it is unable to achieve its plan.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on May 17, 2005.
Grady C. Cothen, Jr.,
Deputy Associate Administrator for Safety Standards and Program Development.

[FR Doc. 05-10281 Filed 5-20-05; 8:45 am]

BILLING CODE 4910-06-P